Title 3—

The President

Memorandum of February 20, 2013

Delegation of Authority To Submit to the Congress Certain Certifications, Reports, and Notifications

Memorandum for the Secretary of State

By the authority vested in me as President by the Constitution and the laws of the United States of America, I hereby delegate to you:

(1) the function of the President to make all certifications, reports, and notifications to the Congress prior to entry into force of the Treaty Between the Government of the United States of America and the Government of Australia Concerning Defense Trade Cooperation, as well as to provide annual reports thereafter, consistent with section 2 of the Senate Resolution of Advice and Consent to Ratification of the Treaty, dated September 29, 2010; and

(2) the responsibility of the President, under the Defense Trade Cooperation Treaties Implementation Act of 2010 (the “Act”), to provide congressional notification of amendments to the implementing arrangements that are made pursuant to section 105(c) of the Act.

You are authorized and directed to publish this memorandum in the Federal Register.

THE WHITE HOUSE,

Washington, February 20, 2013.

[FR Doc. 2013-04975

Filed 2-28-13; 11:15 am]

Billing code 4710-10